DEPARTMENT OF HOMELAND SECURITY

Federal Emergency Management Agency

[Docket ID FEMA-2020-0002; Internal Agency Docket No. FEMA-B-2015]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The LOMR will be used by insurance agents and others to calculate appropriate flood insurance premium rates for new buildings and the contents of those buildings. For rating purposes, the currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

State and county | Location and, case No. | Chief executive, officer of community | Community map, repository | Online location of, letter of map revision | Date of, modification | Community, No.
Arizona:
Maricopa | Town of Queen Creek (19-09-1906P). | The Honorable Gail Barney, Mayor, Town of Queen Creek, 22358 South Ellsworth Road, Queen Creek, AZ 85142. | Town Hall, 22358 South Ellsworth Road, Queen Creek, AZ 85142. | https://msc.fema.gov/portal/advanceSearch. | Jun. 5, 2020 | 040132
Pima | Town of Marana (20-09-0131P). | The Honorable Ed Honea, Mayor, Town of Marana, 11555 West Civic Center Drive, Marana, AZ 85653. | Engineering Department, Marana Municipal Complex, 11555 West Civic Center Drive, Marana, AZ 85653. | https://msc.fema.gov/portal/advanceSearch. | Apr. 29, 2020 | 040118
Pima | Unincorporated Areas of Pima County (19-09-0046P). | The Honorable Richard Elías, Chairman, Board of Supervisors, Pima County, 130 West Congress Street, 11th Floor, Tucson, AZ 85701. | Pima County Flood Control District, 201 North Stone Avenue, 9th Floor, Tucson, AZ 85701. | https://msc.fema.gov/portal/advanceSearch. | May 27, 2020 | 040073
California:
Lake | Unincorporated Areas of Lake County (19-09-1042P). | The Honorable Tina Scott, Chair, Board of Supervisors, Lake County, 255 North Forbes Street, Lakeport, CA 95453. | Lake County, Department of Public Works, 255 North Forbes Street Room 309, Lakeport, CA 95453. | https://msc.fema.gov/portal/advanceSearch. | Jun. 8, 2020 | 060090
Riverside | Unincorporated Areas of Riverside County (19-09-0463P). | The Honorable Kevin Jeffries, Chairman, Board of Supervisors, Riverside County, 4080 Lemon Street, 5th Floor, Riverside, CA 92501. | Riverside County, Flood Control and Water Conservation District, 1995 Market Street, Riverside, CA 92501. | https://msc.fema.gov/portal/advanceSearch. | Jun. 8, 2020 | 060245
San Bernardino | City of Colton, (19-09-1360P). | The Honorable Frank J. Navarro, Mayor, City of Colton, 650 North La Cadena Drive, Colton, CA 92324. | Public Works Department, 160 South 10th Street, Colton, CA 92324. | https://msc.fema.gov/portal/advanceSearch. | May 1, 2020 | 060273
San Bernardino | Unincorporated Areas of San Bernardino County (19-09-1360P). | The Honorable Curt Hagman, Chairman, Board of Supervisors, San Bernardino County, 385 North Arrowhead Avenue, 5th Floor, San Bernardino, CA 92415. | San Bernardino County Public Works, Water Resources Department, 825 East 3rd Street, San Bernardino, CA 92415. | https://msc.fema.gov/portal/advanceSearch. | May 1, 2020 | 060270
Santa Clara | City of San Jose (19-09-1592P). | The Honorable Sam Liccardo, Mayor, City of San Jose, 200 East Santa Clara Street, 18th Floor, San Jose, CA 95113. | Department of Public Works, 200 East Santa Clara Street Tower, 5th Floor, San Jose, CA 95113. | https://msc.fema.gov/portal/advanceSearch. | Jun. 1, 2020 | 060349
Sonoma | Town of Windsor (19-09-0487P). | The Honorable Dominic Foppoli, Mayor, Town of Windsor, 9291 Old Redwood Highway, Building 400, Windsor, CA 95492. | Building Department, 9291 Old Redwood Highway, Windsor, CA 95492. | https://msc.fema.gov/portal/advanceSearch. | Apr. 17, 2020 | 060761
Florida: St. Johns | Unincorporated Areas of St. Johns, (18-04-6491P). | The Honorable Jeb S. Smith, Chair, St. Johns County Board of Commissioners, 500 San Sebastian View, St. Augustine, FL 32084. | St. Johns County Building Department, 4040 Lewis Speedway, St. Augustine, FL 32084. | https://msc.fema.gov/portal/advanceSearch. | Jun. 11, 2020 | 125147
Idaho:
Blaine | City of Bellevue (19-10-1086P). | The Honorable Ned Burns, Mayor, City of Bellevue, City Hall, 115 Pine Street, Bellevue, ID 83313. | City Hall, 115 Pine Street, Bellevue, ID 83313. | https://msc.fema.gov/portal/advanceSearch. | May 28, 2020 | 160021
Blaine | Unincorporated Areas of Blaine County, (19-10-1086P). | The Honorable Jacob Greenberg, Chairman, Blaine County Commissioners, Blaine County Annex Building, 219 South 1st Avenue Suite 300, Hailey, ID 83333. | Blaine County Planning and Zoning, 219 South 1st Avenue Suite 208, Hailey, ID 83333. | https://msc.fema.gov/portal/advanceSearch. | May 28, 2020 | 165167
Illinois:
DuPage | City of Warrenville (20-05-1148P). | The Honorable David L. Brummel, Mayor, City of Warrenville, 28W701 Stafford Place, Warrenville, IL 60555. | City Hall, 28W701 Stafford Place, Warrenville, IL 60555. | https://msc.fema.gov/portal/advanceSearch. | Jun. 10, 2020 | 170218
Will | City of Aurora (20-05-0274P). | The Honorable Richard C. Irvin, Mayor, City of Aurora, 44 East Downer Place, Aurora, IL 60505. | City Hall, 44 East Downer Place, Aurora, IL 60505. | https://msc.fema.gov/portal/advanceSearch. | Jun. 3, 2020 | 170320
Nevada: Carson City | City of Carson City (19-09-1428P). | The Honorable Robert L. Crowell, Mayor, City of Carson City, City Hall, 201 North Carson City Suite 2, Carson City, NV 89701. | Building Division, Permit Center, 108 East Proctor Street, Carson City, NV 89701. | https://msc.fema.gov/portal/advanceSearch. | May 28, 2020 | 320001
Texas:
Tarrant | City of Fort Worth (19-06-3826P). | The Honorable Betsy Price, Mayor, City of Fort Worth, 200 Texas Street, Fort Worth, TX 76102. | Department of Transportation and Public Works, 200 Texas Street, Fort Worth, TX 76102. | https://msc.fema.gov/portal/advanceSearch. | Jun. 4, 2020 | 480596
Tarrant | City of Grand Prairie, (19-06-3826P). | The Honorable Ron Jensen, Mayor, City of Grand Prairie, 317 West College Street, Grand Prairie, TX 75053. | Community Development Center, 206 West Church Street, Grand Prairie, TX 75050. | https://msc.fema.gov/portal/advanceSearch. | Jun. 4, 2020 | 485472
Wisconsin: Waukesha | Village of Summit (19-05-5478P). | Mr. Jack Riley, Village President, Village of Summit, 37100 Delafield Road, Summit, WI 53066. | Village Hall, 2911 North Dousman Road, Oconomowoc, WI 53066. | https://msc.fema.gov/portal/advanceSearch. | Jun. 12, 2020 | 550663

[FR Doc. 2020-04279 Filed 3-2-20; 8:45 am]

BILLING CODE 9110-12-P